DEPARTMENT OF STATE

[Public Notice 11976]

Notice of a Public Meeting in Preparation for the International Maritime Organization FAL 47 Meeting

The Department of State will conduct a public meeting at 10:00 a.m. on Tuesday, March 7, 2023, both in-person at the offices of ABSG Consulting in Washington, DC, and via teleconference. The primary purpose of the meeting is to prepare for the forty-seventh session of the International Maritime Organization's (IMO) Facilitation Committee (FAL 47) to be held at IMO Headquarters in London, United Kingdom from Monday, March 13, 2023, to Friday, March 17, 2023.

Members of the public may participate in-person or up to the capacity of the teleconference phone line, which can handle 500 participants. To RSVP, participants should contact the meeting coordinator, Mr. James Bull, by email at James.T.Bull@uscg.mil. The meeting location will be the offices of ABSG Consulting at 80 M Street SE, Suite 480, Washington, DC 20003, and the teleconference line will be provided to those who RSVP.

The agenda items to be considered at this meeting mirror those to be considered at FAL 47, and include:

• Opening of the session

• Adoption of the agenda; report on credentials

• Decisions of other IMO bodies

• Consideration and adoption of amendments to the Convention

• Review and update of the Explanatory Manual to the FAL Convention

• Application of single window concept

• Review and revision of the IMO Compendium on Facilitation and Electronic Business, including additional e-business solutions

• Consideration of descriptions of Maritime Services in the context of e-navigation

• Development of guidelines for harmonized communication and electronic exchange of operational data for port calls

• Development of guidelines on Port Community Systems

• Unsafe mixed migration by sea

• Consideration and analysis of reports and information on persons rescued at sea and stowaways

• Measures to address Maritime Autonomous Surface Ships (MASS) in the instruments under the purview of the Facilitation Committee

• Introduction of the API/PNR concept in maritime transport

• Analysis of possible means of auditing compliance with the Convention on Facilitation of International Maritime Traffic

• Technical cooperation activities related to facilitation of maritime traffic

• Relations with other organizations

• Application of the Committee's procedures on organization and method of work

• Work program

• Election of Chair and Vice-Chair for 2024

• Any other business

• Consideration of the report of the Committee on its forty-seventh session

Please note: The Committee may, on short notice, adjust the FAL 47 agenda to accommodate the constraints associated with the meeting format. Although no changes to the agenda are anticipated, if any are necessary, they will be provided to those who RSVP.

Those who plan to participate may contact the meeting coordinator, Mr. James Bull, by email at James.T.Bull@uscg.mil or in writing at 2703 Martin Luther King Jr. Ave. SE, Stop 7501, Washington, DC 20593-7501. Members of the public needing reasonable accommodation should advise Mr. James Bull not later than February 28, 2023. Requests made after that date will be considered, but might not be possible to fulfill.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2023-01442 Filed 1-24-23; 8:45 am]

BILLING CODE 4710-09-P